DEPARTMENT OF COMMERCE

International Trade Administration

[C-489-502]

Welded Carbon Steel Standard Pipe and Tube from Turkey: Notice of Rescission of Countervailing Duty Administrative Review, In Part

AGENCY: Import Administration, International Trade Administration, Department of Commerce.

EFFECTIVE DATE: September 18, 2009.

FOR FURTHER INFORMATION CONTACT: Christopher Hargett, AD/CVD Operations, Office 3, Import Administration, International Trade Administration, U.S. Department of Commerce, 14th Street and Constitution Avenue, NW, Washington, DC 20230; telephone: (202) 482-4161.

SUPPLEMENTARY INFORMATION:

Background

On March 2, 2009, the Department of Commerce (the Department) published a notice of opportunity to request an administrative review of the countervailing duty (CVD) order on welded carbon steel pipe and tube from Turkey. See Antidumping or Countervailing Duty Order, Finding, or Suspended Investigation; Opportunity To Request Administrative Review, 74 FR 9077 (March 2, 2009). On April 27, 2009, the Department published the notice of initiation of the administrative review of the CVD order for the period January 1, 2008, through December 31, 2008, covering, among other companies,¹ the Yucel Boru Group, Cayirova Boru Sanayi ve Ticaret A.S., Yucelboru Ihracat Ithalat ve Pazarlama A.S., and Yucel Boru ve Profil Endustrisi A.S. (collectively, Yucel). See Initiation of Antidumping and Countervailing Duty Administrative Reviews and Request for Revocation in Part, 74 FR 19042, 19044 (April 27, 2009).

¹ The Borusan Group, Borusan Mannesmann Boru Sanayi ve Ticaret A.S., Borusan Istikbal Ticaret T.A.S., Tosyali dis Ticaret A.S., and Toscelik Profil ve Sac Endustrisi A.S.

On June 15, 2009, Yucel notified the Department that it had no sales, shipments, or entries, directly or indirectly, of subject merchandise to the United States during the period of review (POR). On August 5, 2009, we published the notice of preliminary rescission of this CVD duty administrative review with respect to Yucel, and invited interested parties to comment. See Welded Carbon Steel Standard Pipe and Tube from Turkey: Intent to Rescind Countervailing Duty Administrative Review, in Part, 74 FR 39062 (August 5, 2009) (Preliminary Rescission). We received no comments, and have determined that the review of Yucel should be rescinded. This review will remain in effect for all other companies for which the review was initiated.

Partial Rescission of Review

Pursuant to 19 CFR 351.213(d)(3), the Department may rescind an administrative review, with respect to a particular exporter or producer, if the Secretary concludes that, during the period covered by the review, there were no entries, exports, or sales of the subject merchandise to the United States by that producer. Yucel submitted a letter on June 15, 2009, certifying that it did not have sales of subject merchandise to the United States during the POR. The Department received no comments from any other party on Yucel's no-shipment claim.

We conducted an internal customs data query on June 16, 2009. We also issued a “no shipments inquiry” message to U.S. Customs and Border Protection (CBP), which posted the message on June 19, 2009.² The customs data query indicated that Yucel had no sales, shipments, or entries of subject merchandise to the United States during the POR. We did not receive any information from CBP contrary to Yucel's claim of no sales, shipments, or entries of subject merchandise to the United States during the POR. See Memorandum to the File through Melissa Skinner, Director, AD/CVD Operations, Office 3, titled “Customs Data Query,” (July 7, 2009).

² See Message number 9170203, available at http://addcvd.cbp.gov.

Based on our analysis of the shipment data, we determine that Yucel did not ship subject merchandise to the United States during the POR. Therefore, in accordance with 19 CFR 351.213(d)(3), and consistent with our practice,³ we are rescinding the review for Yucel. We will continue this administrative review with respect to the Borusan Group, Borusan Mannesmann Boru Sanayi ve Ticaret A.S., Borusan Istikbal Ticaret T.A.S., Tosyali dis Ticaret A.S., and Toscelik Profil ve Sac Endustrisi A.S.

³ See, e.g., Certain Welded Carbon Steel Pipe and Tube from Turkey: Notice of Rescission, in Part, of Antidumping Duty Administrative Review, 74 FR 7394 (February 17, 2009).

We are issuing and publishing these results and notice in accordance with sections 751(a)(1) and 777(i)(1) of the Tariff Act of 1930, as amended, and 19 CFR 351.213(d)(4).

Dated: September 14, 2009.
John M. Andersen,
Acting Deputy Assistant Secretary for Antidumping and Countervailing Duty Operations.

[FR Doc. E9-22498 Filed 9-17-09; 8:45 am]

BILLING CODE 3510-DS-S